DEPARTMENT OF ENERGY

[FE Docket Nos. 04-01-NG; et al.]

Office of Fossil Energy; Irving Oil Terminals Inc., et al.; Orders Granting and Amending Authority To Import and Export Natural Gas, Including Liquefied Natural Gas

AGENCY: Office of Fossil Energy, DOE.

ACTION: Notice of orders.

SUMMARY: The Office of Fossil Energy (FE) of the Department of Energy gives notice that during January 2003, it issued Orders granting and amending authority to import and export natural gas, including liquefied natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on February 5, 2004.
Sally Kornfeld,
Manager, Natural Gas Regulation, Office of Natural Gas & Petroleum Import & Export Activities, Office of Fossil Energy.

Appendix.—Orders Granting and Vacating Import/Export Authorizations
[DOE/FE Authority]
Order No. | Date issued | Importer/exporter FE docket No. | Import volume | Export volume | Comments
1933 | 1-7-04 | Irving Oil Terminals Inc., 04-01-NG | 13.77 Bcf |  | Import and export a combined total of natural gas from and to Canada, beginning on January 1, 2004, and extending through December 31, 2005.
1829-A | 1-7-04 | Engage Energy, LLC (Formerly Engage Energy America LLC), 02-81-LNG |  |  | Name change on blanket import and export authority.
1934 | 1-13-04 | NYSEG Solutions, Inc., 04-02-NG | 15 Bcf |  | Import and export a combined total of natural gas from and to Canada, beginning on January 1, 2004, and extending through December 31, 2005.
1935 | 1-13-04 | Panhandle Eastern Pipe Line Company, 03-87-NG | 5 Bcf |  | Import and export a combined total of natural gas from and to Canada, beginning on January 13, 2004, and extending through January 12, 2006.

[FR Doc. 04-2968 Filed 2-10-04; 8:45 am]

BILLING CODE 6450-01-P